DEPARTMENT OF ENERGY

10 CFR Part 430

[Docket No. EERE-2013-BT-TP-0044]

RIN 1904-AD06

Energy Conservation Program: Compliance Date for the Dehumidifier Test Procedure

AGENCY: Office of Energy Efficiency and Renewable Energy, Department of Energy.

ACTION: Notice of proposed rulemaking.

SUMMARY: The U.S. Department of Energy (DOE) proposes to revise the compliance date for the dehumidifier test procedures established under the Energy Policy and Conservation Act (EPCA). The proposed amendments would require manufacturers to test using only the active mode provisions in the test procedure for dehumidifiers currently found in the DOE regulations to determine compliance with the existing energy conservation standards, with the following exceptions. The appendix in its entirety would be required for use by manufacturers that make representations of standby mode or off mode energy use, and, after the compliance date for any amended energy conservation standards enacted in the future that incorporate measures of standby mode and off mode energy use, to demonstrate compliance with such amended standards. The proposed amendments would remove from use, 30 days after publication of the final rule in the Federal Register, the test procedure for dehumidifiers because DOE has determined that this test procedure would be made redundant by the proposed amendments, as well as clarify test procedure instructions.

DATES: DOE will accept comments, data, and information regarding this notice of proposed rulemaking (NOPR) no later than November 21, 2013. See section IV, “Public Participation,” for details.

ADDRESSES: Any comments submitted must identify the NOPR for Test Procedures for Dehumidifiers and provide docket number EERE-2013-BT-TP-0044 and/or regulatory information number (RIN) number 1904-AD06. Comments may be submitted using any of the following methods:

1. Federal eRulemaking Portal: www.regulations.gov. Follow the instructions for submitting comments.

2. Email: Dehumidifiers2013TP0044@ee.doe.gov. Include the docket number and/or RIN in the subject line of the message.

3. Mail: Ms. Brenda Edwards, U.S. Department of Energy, Building Technologies Program, Mailstop EE-2J, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

For detailed instructions on submitting comments and additional information on the rulemaking process, see section IV of this document (Public Participation).

Docket:

A link to the docket Web page can be found at: http://www.regulations.gov/#!docketDetail;D=EERE-2013-BT-TP-0044. This Web page will contain a link to the docket for this notice on the regulations.gov site. The regulations.gov Web page will contain simple instructions on how to access all documents, including Federal Register notices, comments, and other supporting documents/materials, in the docket. See section IV for information on how to submit comments through regulations.gov.

For further information on how to submit a comment, or review other public comments and the docket, contact Ms. Brenda Edwards at (202) 586-2945 or by email: Brenda.Edwards@ee.doe.gov.

FOR FURTHER INFORMATION CONTACT: Ashley Armstrong, U.S. Department of Energy, Office of Energy Efficiency and Renewable Energy, Building Technologies Program, EE-2J, 1000 Independence Avenue SW., Washington, DC 20585-0121. Telephone: (202) 586-6590. Email: dehumidifiers@ee.doe.gov.

James Silvestro, U.S. Department of Energy, Office of the General Counsel, GC-77, 1000 Independence Avenue SW., Washington, DC 20585-0121. Telephone: (202) 586-4224. Email: james.silvestro@hq.doe.gov.

SUPPLEMENTARY INFORMATION:

Table of Contents

I. Authority and Background

II. Discussion

III. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Review Under Section 32 of the Federal Energy Administration Act of 1974

IV. Public Participation

V. Approval of the Office of the Secretary

I. Authority and Background

Title III of the Energy Policy and Conservation Act of 1975 (42 U.S.C. 6291, et seq.; “EPCA” or “the Act”) sets forth a variety of provisions designed to improve energy efficiency. (All references to EPCA refer to the statute as amended through the American Energy Manufacturing Technical Corrections Act (AEMTCA), Pub. L. 112-210 (Dec. 18, 2012).) Part B of title III, which for editorial reasons was redesignated as Part A upon incorporation into the U.S. Code (42 U.S.C. 6291-6309, as codified), establishes the “Energy Conservation Program for Consumer Products Other Than Automobiles.” The list of “covered products” under EPCA includes dehumidifiers, which are the subject of today's notice. 42 U.S.C. 6292(a)(11).

Under EPCA, the energy conservation program consists essentially of four parts: (1) Testing, (2) labeling, (3) Federal energy conservation standards, and (4) certification and enforcement procedures. The testing requirements consist of test procedures that manufacturers of products must use to: (1) Ensure that their products meet the applicable energy conservation standards adopted under EPCA; and (2) make representations about the efficiency of those products.

General Test Procedure Rulemaking Process

Under 42 U.S.C. 6293, EPCA sets forth the criteria and procedures DOE must follow when prescribing or amending test procedures for covered products. EPCA provides in relevant part that any test procedures prescribed or amended under section 6293 shall be reasonably designed to produce test results which measure energy efficiency, energy use, or estimated annual operating cost of a covered product during a representative average use cycle or period of use and shall not be unduly burdensome to conduct. (42 U.S.C. 6293(b)(3)) In addition, if DOE determines that a test procedure amendment is warranted, it must publish proposed test procedures and offer the public an opportunity to present oral and written comments on them. (42 U.S.C. 6293(b)(2)) Finally, in any rulemaking to amend a test procedure, DOE must determine to what extent, if any, the proposed test procedure would alter the measured energy efficiency of any covered product as determined under the existing test procedure. (42 U.S.C. 6293(e)(1)) If DOE determines that the amended test procedure would alter the measured efficiency of a covered product, DOE must amend the applicable energy conservation standard accordingly. (42 U.S.C. 6293(e)(2))

The Energy Policy Act of 2005 (EPACT) amended EPCA to specify that the dehumidifier test criteria used under the ENERGY STAR ¹ program in effect as of January 1, 2001, must serve as the basis for the DOE test procedure for dehumidifiers, unless revised by DOE. (EPACT, section 135(b); 42 U.S.C. 6293(b)(13)) The ENERGY STAR test criteria required that the Canadian Standards Association (CAN/CSA) standard CAN/CSA-C749-1994 (R2005), “Performance of Dehumidifiers,” be used to calculate the energy factor (EF) and that ANSI/AHAM Standard DH-1, “Dehumidifiers,” be used to measure capacity. The ENERGY STAR test criteria did not, however, state which version of ANSI/AHAM Standard DH-1, “Dehumidifiers,” was to be used, although the version in effect on January 1, 2001, was ANSI/AHAM DH-1-1992. DOE adopted these test criteria, along with related definitions and tolerances, as its test procedure for dehumidifiers at 10 Code of Federal Regulations (CFR) part 430, subpart B, appendix X in 2006. 71 FR 71340, 71347, 71366, 713667-68 (Dec. 8, 2006).

¹ For more information, please visit http://www.energystar.gov/.

On October 31, 2012, DOE published a final rule to establish a new test procedure for dehumidifiers that references ANSI/AHAM Standard DH-1-2008, “Dehumidifiers,” (ANSI/AHAM DH-1-2008) rather than the ENERGY STAR test criteria for both energy use and capacity measurements. 77 FR 65995 (Oct. 31, 2012). The final rule also adopted standby and off mode provisions that satisfy the requirement in the Energy Independence and Security Act of 2007 (EISA) for DOE to include measures of standby mode and off mode energy consumption in its test procedures for residential products, if technically feasible. (42 U.S.C. 6295(gg)(2)(A)) This new DOE test procedure, codified at 10 CFR part 430, subpart B, appendix X1 (“appendix X1”), establishes a new metric, integrated energy factor (IEF), which incorporates measures of active mode, standby mode, and off mode energy use. Appendix X1 is not currently required to demonstrate compliance with energy conservation standards, but would be required after the compliance date of any amended standards that include standby mode and off mode energy consumption. Prior to the compliance date of any amended energy conservation standards, manufacturers may currently use the test procedure set forth in either appendix X or appendix X1 to make representations related to active mode energy consumption of dehumidifiers; however, manufacturers are required to use the test procedure set forth in appendix X1 to make any representations related to standby mode and off mode energy consumption.

II. Discussion

Manufacturers may currently test dehumidifiers using the test procedure set forth in either appendix X or appendix X1 to determine compliance with the existing energy conservation standards and to make representations related to active mode energy consumption. Although the version of ANSI/AHAM Standard DH-1 referenced in the test requirements set forth in appendix X for measuring energy use in active mode is not specified, DOE believes, based on its observations, that manufacturers and test laboratories typically use the current version, ANSI/AHAM DH-1-2008, when testing to determine compliance with the existing dehumidifier energy conservation standards. DOE further notes that this current version of ANSI/AHAM DH-1 is required to be used for other industry testing purposes, such as for the AHAM dehumidifier verification program.² AHAM is also approved by the EPA to administer verification testing for purposes of the ENERGY STAR program.

² Under section 4.1 of AHAM's “Dehumidifier Certification Program Procedural Guide, January 2006” dehumidifier water removal capacity and EF must be certified in accordance with the latest edition of ANSI/AHAM DH-1.

DOE determined, in a supplemental notice of proposed rulemaking (SNOPR) in the previous dehumidifier test procedure rulemaking, that the use of either ANSI/AHAM DH-1-2008 or ANSI/AHAM DH-1-1992, would produce comparable results for active mode testing. 77 FR 31444, 31453-54 (May 25, 2012). Therefore, manufacturers that choose to measure EF and capacity according to appendix X using ANSI/AHAM DH-1-1992 obtain dehumidifier performance results that are generally comparable to the results using the active mode provisions of appendix X1. Because appendix X is functionally equivalent to the active mode provisions of appendix X1, DOE is proposing in today's notice that manufacturers would demonstrate compliance with existing energy conservation standards using appendix X1, and that appendix X would no longer be used.

In addition to the active mode provisions in sections 1, 2, 3.1, and 4.1, appendix X1 contains provisions for the measurement of standby mode and off mode energy consumption in sections 4.2, 4.2.1, and 4.2.2 and the calculation of IEF in section 5.2, which will not be mandatory until the compliance date of any amended standards. Because these provisions are not used for determining EF or capacity, manufacturers would incur an increased test burden when demonstrating compliance with existing standards by conducting the entire test procedure at appendix X1 rather than appendix X. To preclude this unnecessary testing burden, DOE is proposing to clarify in the introductory note in appendix X1 and in 10 CFR 430.23(z) that manufacturers that do not make representations with respect to standby mode and off mode energy consumption may perform only the active mode test provisions when testing to determine compliance with the existing energy conservation standards.

Because the April 29, 2013 effective date currently provided in the introductory notes in both appendix X and appendix X1 for representations of standby mode and off mode energy use has passed, DOE proposes to remove reference to that date in both appendices and require that manufacturers making representations of standby mode and off mode energy use must test their dehumidifier(s) in accordance with appendix X1 in its entirety.

Accordingly, under the proposed rule, 30 days after publication, all testing must be conducted using all or part of appendix X1, depending on whether a manufacturer makes representations about standby mode and off mode energy consumption. This includes testing by the manufacturer, DOE, and any third parties. Manufacturers will have 180 additional days to make any changes needed to representations, including labels, certification reports, marketing materials, etc. DOE does not expect that any modifications will be needed because this proposed test procedure modification does not change the measured consumption. (42 U.S.C. 6293(e)(2))

Finally, DOE proposes to amend the test procedures at 10 CFR 430.23(z) to require that EF, when measured, be determined according to the relevant active mode provisions of appendix X1, and IEF, when measured, be determined according to appendix X1 in its entirety.

DOE requests comment on all aspects of today's proposal, and in particular on the burden associated with the proposed requirement that the active mode provisions of appendix X1 be used rather than appendix X for demonstrating compliance with existing energy conservation standards.

III. Procedural Issues and Regulatory Review

A. Review Under Executive Order 12866

The Office of Management and Budget (OMB) has determined that test procedure rulemakings do not constitute “significant regulatory actions” under section 3(f) of Executive Order 12866, Regulatory Planning and Review, 58 FR 51735 (Oct. 4, 1993). Accordingly, this action was not subject to review under the Executive Order by the Office of Information and Regulatory Affairs (OIRA) in the Office of Management and Budget.

B. Review Under the Regulatory Flexibility Act

The Regulatory Flexibility Act (5 U.S.C. 601 et seq.) requires preparation of an initial regulatory flexibility analysis (IFRA) for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. (68 FR 7990) DOE has made its procedures and policies available on the Office of the General Counsel's Web site: http://energy.gov/gc/office-general-counsel.

DOE reviewed today's proposal under the provisions of the Regulatory Flexibility Act and the procedures and policies published on February 19, 2003. DOE has tentatively concluded that the proposal would not have a significant impact on a substantial number of small entities. The factual basis for this certification is as follows:

The Small Business Administration (SBA) considers a business entity to be small business, if, together with its affiliates, it employs less than a threshold number of workers specified in 13 CFR part 121. These size standards and codes are established by the North American Industry Classification System (NAICS). The threshold number for NAICS classification code 335211, “Electric Housewares and Household Fan Manufacturing,” which applies to dehumidifier manufacturers, is 750 employees.

Most of the manufacturers supplying residential dehumidifiers are large multinational corporations. DOE surveyed the AHAM member directory to identify manufacturers of residential dehumidifiers. DOE then consulted publicly-available data, purchased company reports from vendors such as Dun and Bradstreet, and contacted manufacturers, where needed, to determine if they meet the SBA's definition of a “small business manufacturing facility” and have their manufacturing facilities located within the United States. Based on this analysis, DOE identified five small businesses that manufacture residential dehumidifiers.

Today's proposal would amend DOE's test procedures for dehumidifiers by requiring an updated reference to the industry dehumidifier test method. This amendment could potentially require manufacturers to install a larger test chamber and different air handling equipment. However, some manufacturers may already be using ANSI/AHAM DH-1-2008 in certifying their products. DOE notes that one of the small businesses has products listed in AHAM's current dehumidifier database of verified products, indicating that those tests were conducted according to DH-1-2008. In addition, AHAM selected an independent test laboratory to conduct dehumidifier testing and verification for its certification program using DH-1-2008. It is likely that this laboratory also performs testing for manufacturers to determine compliance with energy conservation standards in the same facility as the AHAM verification testing. Therefore, DOE concludes that small businesses would not be likely to require investments in facility upgrades due to the requirement to use the DOE dehumidifier test procedure that references DH-1-2008.

For these reasons, DOE concludes and certifies that today's proposal would not have a significant economic impact on a substantial number of small entities. Accordingly, DOE has not prepared a regulatory flexibility analysis for this rulemaking. DOE will transmit the certification and supporting statement of factual basis to the Chief Counsel for Advocacy of the SBA for review under 5 U.S.C. 605(b).

C. Review Under the Paperwork Reduction Act of 1995

Manufacturers of residential dehumidifiers must certify to DOE that their products comply with any applicable energy conservation standards. In certifying compliance, manufacturers must test their products according to the DOE test procedures for dehumidifiers, including any amendments adopted for those test procedures. DOE has established regulations for the certification and recordkeeping requirements for all covered consumer products and commercial equipment, including residential dehumidifiers. (76 FR 12422 (March 7, 2011)) The collection-of-information requirement for the certification and recordkeeping is subject to review and approval by OMB under the Paperwork Reduction Act (PRA). This requirement has been approved by OMB under OMB control number 1910-1400. Public reporting burden for the certification is estimated to average 20 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

In this proposed rule, DOE proposes test procedure amendments that it expects will be used to develop and implement future energy conservation standards for residential dehumidifiers. DOE has determined that this rule falls into a class of actions that are categorically excluded from review under the National Environmental Policy Act of 1969 (42 U.S.C. 4321 et seq.) and DOE's implementing regulations at 10 CFR part 1021. Specifically, this proposed rule would amend the existing test procedures without affecting the amount, quality or distribution of energy usage, and, therefore, would not result in any environmental impacts. Thus, this rulemaking is covered by Categorical Exclusion A5 under 10 CFR part 1021, subpart D, which applies to any rulemaking that interprets or amends an existing rule without changing the environmental effect of that rule. Accordingly, neither an environmental assessment nor an environmental impact statement is required.

E. Review Under Executive Order 13132

Executive Order 13132, “Federalism,” 64 FR 43255 (August 4, 1999), imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. (65 FR 13735) DOE has examined this proposed rule and has determined that it would not have a substantial direct effect on the States, on the relationship between the national government and the States, or on the distribution of power and responsibilities among the various levels of government. EPCA governs and prescribes Federal preemption of State regulations as to energy conservation for the products that are the subject of today's proposed rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) Eliminate drafting errors and ambiguity; (2) write regulations to minimize litigation; (3) provide a clear legal standard for affected conduct rather than a general standard; and (4) promote simplification and burden reduction. Section 3(b) of Executive Order 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, the proposed rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. (62 FR 12820; also available at http://energy.gov/gc/office-general-counsel) DOE examined today's proposed rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights,” 53 FR 8859 (March 18, 1988), that this regulation would not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). DOE has reviewed today's proposed rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use.

Today's regulatory action to amend the test procedure for measuring the energy efficiency of residential dehumidifiers is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977 (FEAA). (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

IV. Public Participation

DOE will accept comments, data, and information regarding this proposed rule before or after the public meeting, but no later than the date provided in the DATES section at the beginning of this proposed rule. Interested parties may submit comments using any of the methods described in the ADDRESSES section at the beginning of this notice.

Submitting comments via regulations.gov. The regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to regulations.gov information for which disclosure is restricted by statute, such as trade secrets and commercial or financial information (hereinafter referred to as Confidential Business Information (CBI)). Comments submitted through regulations.gov cannot be claimed as CBI. Comments received through the Web site will waive any CBI claims for the information submitted. For information on submitting CBI, see the Confidential Business Information section.

DOE processes submissions made through regulations.gov before posting. Normally, comments will be posted within a few days of being submitted. However, if large volumes of comments are being processed simultaneously, your comment may not be viewable for up to several weeks. Please keep the comment tracking number that regulations.gov provides after you have successfully uploaded your comment.

Submitting comments via email, hand delivery, or mail. Comments and documents submitted via email, hand delivery, or mail also will be posted to regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: one copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

V. Approval of the Office of the Secretary

The Secretary of Energy has approved publication of this proposed rule.

List of Subjects in 10 CFR Part 430

Administrative practice and procedure, Confidential business information, Energy conservation, Household appliances, Imports, Incorporation by reference, Intergovernmental relations, Small businesses.

Issued in Washington, DC, on September 30, 2013.
Kathleen B. Hogan,
Deputy Assistant Secretary for Energy Efficiency, Energy Efficiency and Renewable Energy.

For the reasons stated in the preamble, DOE is proposing to amend part 430 of chapter II of title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.23 is amended by revising paragraph (z) to read as follows:

§ 430.23 Test procedures for the measurement of energy and water consumption.

* * * * *

(z) Dehumidifiers. (1) When measuring the energy factor for dehumidifiers (see the note at the beginning of appendix X), expressed in liters per kilowatt hour (L/kWh), energy factor shall be measured in accordance with section 4.1 of appendix X to this subpart.

(2) When measuring the integrated energy factor for dehumidifiers (see the note at the beginning of appendix X), expressed in L/kWh, integrated energy factor shall be determined according to paragraph 5.2 of appendix X to this subpart.

* * * * *

Appendix X to Subpart B of Part 430—[Removed]

3. Appendix X to subpart B of part 430 is removed.

Appendix X1 to Subpart B of Part 430—[Redesignated as Appendix X]

4. Appendix X1 to subpart B of part 430 is amended by redesignating Appendix X1 as Appendix X and revising the heading and note after the heading for newly redesignated Appendix X to read as follows:

Appendix X to Subpart B of Part 430—Uniform Test Method for Measuring the Energy Consumption of Dehumidifiers

Note: After [DATE 180 DAYS AFTER PUBLICATION OF THE FINAL RULE IN THE Federal Register], any representations made with respect to the energy use or efficiency of dehumidifiers must be made in accordance with the results of testing pursuant to this appendix. After this date, if a manufacturer elects to make representations with regard to standby mode and off mode energy consumption, then testing must also include the provisions of this appendix related to standby mode and off mode energy consumption.

Manufacturers conducting tests of dehumidifiers after [DATE 30 DAYS AFTER PUBLICATION OF THE FINAL RULE IN THE Federal Register] and prior to [DATE 180 DAYS AFTER PUBLICATION OF THE FINAL RULE IN THE Federal Register], must conduct such test in accordance with either this appendix or appendix X as it appeared at 10 CFR part 430, subpart B, appendix X, in the 10 CFR parts 200 to 499 edition revised as of January 1, 2013. Any representations made with respect to the energy use or efficiency of such dehumidifiers must be in accordance with whichever version is selected. Given that after [DATE 180 DAYS AFTER PUBLICATION OF THE FINAL RULE IN THE Federal Register] representations with respect to the energy use or efficiency of dehumidifiers must be made in accordance with tests conducted pursuant to this appendix, manufacturers may wish to begin using this test procedure as soon as possible.

On or after the compliance date for any amended energy conservation standards that incorporate standby mode and off mode energy consumption, all representations must be based on testing performed in accordance with this appendix in its entirety.

* * * * *

[FR Doc. 2013-24597 Filed 10-21-13; 8:45 am]

BILLING CODE 6450-01-P